DEPARTMENT OF LABOR

Employment And Training Administration

[TA-W-54,328]

Lucent Technologies, Inc., Charlotte, NC; Notice of Termination of Investigation

Pursuant to section 221 of the Trade Act of 1974, as amended, an investigation was initiated on February 23, 2004, in response to a petition filed by a State agency representative on behalf of workers at Lucent Technologies, Inc., Charlotte, North Carolina.

The petitioner has requested that the petition be withdrawn. Consequently, the investigation has been terminated.

Signed in Washington, DC, this 27th day of February, 2004.
Linda G. Poole,
Certifying Officer, Division of Trade Adjustment Assistance.

[FR Doc. E4-584 Filed 3-15-04; 8:45 am]

BILLING CODE 4510-13-P